DEPARTMENT OF EDUCATION

Centers for Independent Living Program—Training and Technical Assistance

AGENCY: Office of Special Education and Rehabilitative Services, Department of Education.

ACTION: Notice of final priorities.

SUMMARY: The Assistant Secretary for the Office of Special Education and Rehabilitative Services (OSERS) announces two priorities under the Centers for Independent Living (CIL) Program—Training and Technical Assistance. The Assistant Secretary may use one or more of these priorities for competitions in fiscal year (FY) 2007 and in later years. We take this action to improve the CIL program efficiency, quality of evaluation methods for CIL program activities, and outcomes for individuals with significant disabilities who receive independent living services from CILs and to improve the performance of Statewide Independent Living Councils (SILCs).

EFFECTIVE DATE: These priorities are effective July 23, 2007.

FOR FURTHER INFORMATION CONTACT: Sean Barrett, U.S. Department of Education, 400 Maryland Avenue, SW., room 5042, Potomac Center Plaza, Washington, DC 20202. Telephone: (202) 245-7604 or via Internet: sean.barrett@ed.gov.

If you use a telecommunications device for the deaf (TDD), you may call the TDD number at (866) 889-6737.

Individuals with disabilities may obtain this document in an alternative format (e.g., Braille, large print, audiotape, or computer diskette) on request to the contact person listed under FOR FURTHER INFORMATION CONTACT.

SUPPLEMENTARY INFORMATION: We published a notice of proposed priorities (NPP) for this competition in the Federal Register on March 6, 2007 (72 FR 9936). The NPP included a background statement that described our rationale for each priority proposed in that notice. Except for minor editorial revisions, there are no differences between the NPP and this notice of final priorities.

Analysis of Comments and Changes

In response to our invitation in the NPP, 23 parties submitted comments on the proposed priorities. An analysis of the comments and our responses follows.

Generally, we do not address technical and other minor changes and suggested changes the law does not authorize us to make under the applicable statutory authority.

Comment: Sixteen commenters opposed the Department's proposal to establish two separate priorities and award separate training and technical assistance grants for CILs and SILCs, while two commenters supported the Department's proposal. Those commenters opposed to separate grants for CILs and SILCs expressed many of the same concerns. A majority of these commenters noted that CILs and SILCs have similar goals and require similar knowledge if they are to work together to achieve those goals. They opined that a training program in which CILs and SILCs are trained together allows the CILs and SILCs to understand the activities, needs, and issues of one another and that establishing two separate priorities and awarding separate grants would be a barrier to effective communication and collaboration between CILs and SILCs.

Several commenters regarded the awarding of separate grants to CILs and SILCs as inefficient because of duplicative administrative structures. One of these commenters was specifically concerned that there may not be enough funding for comprehensive training to SILCs, given that there are many fewer SILCs to be trained than CILs.

A few commenters suggested that the intent of the 1992 technical amendments to the Rehabilitation Act of 1973, as amended (the Act) that authorized SILCs, in addition to CILs, to receive training and technical assistance was that the training and technical assistance be shared with the CILs. These commenters expressed concern that separate grants would increase the likelihood of CILs and SILCs receiving conflicting information.

Discussion: While CILs and SILCs share a common goal of improving independent living outcomes for persons with significant disabilities, their statutorily established activities and responsibilities (reflected in sections 705 and 725 of the Act) are fundamentally different. The establishment of separate priorities and the awarding of separate grants will permit grantees to focus training and technical assistance on the specific needs of CILs and SILCs to ensure that the unique activities and responsibilities of the CILs and SILCs are addressed. Rather than create a barrier to collaboration between CILs and SILCs, we believe the establishment of separate priorities and the awarding of separate grants will produce CILs and SILCs that are well-trained on their respective responsibilities and that are better able to communicate and collaborate with their independent living counterparts in the State.

Although one grantee may be providing training and technical assistance to CILs and another grantee may be providing training and technical assistance to SILCs, the CILs and SILCs will learn about each other in the course of the training and technical assistance they receive. We recognize that, although CILs and SILCs occupy different roles in a State's independent living program, CILs and SILCs must understand each other, interact closely, and work well together to improve the delivery of independent living services to individuals with significant disabilities in their State. For this reason, the priorities established in this notice of final priorities require grantees to collaborate and coordinate with each other, and other training and technical assistance projects, in order to ensure that CILs and SILCs receive accurate and consistent information about themselves and each other.

The 1992 technical amendments to the Act authorized the SILCs to receive training and technical assistance and clearly indicated the intent of Congress that the Department fund a project to provide such training and technical assistance. However, the amendments did not require that training and technical assistance be provided by a single grantee that also provides training and technical assistance to CILs. The Act provides the Department with the discretion to determine how the training and technical assistance will be provided.

We recognize the potential duplication of administrative costs that may result from funding two grantees under separate priorities. However, we believe that focusing resources on meeting the unique needs of CILs and SILCs creates benefits that outweigh the potential duplication of administrative costs. While we recognize that there are fewer SILCs than CILs, we anticipate that sufficient funding will be available for a grantee serving SILCs to accomplish its training and technical assistance goals and objectives for the SILCs. Finally, we note that a single entity can apply for both grants with separate applications, potentially reducing post-award duplicative administrative costs.

Changes: None.

Comment: Five commenters addressed the content requirements of the training and technical assistance that the grantees will provide. Four of these commenters suggested that the two priorities should require training and technical assistance on specific issues, including transition, veterans' needs, disaster recovery, CIL Board member selection and training, outreach, succession planning, risk assessment, liability, and insurance coverage. The fifth commenter asked for clarification as to whether applicants were precluded from addressing youth transition issues under the priorities because the NPP noted that the Department currently funds a training and technical assistance grant that focuses on the issue of service delivery to young people with disabilities as they transition from school to living independently.

Discussion: CILs and SILCs around the country have different training and technical assistance needs depending upon a variety of factors, including, but not limited to, whether the CIL is located in an urban or rural area, the experience and background of CIL board members or SILC members, and whether the CIL is well-established or relatively new. We expect grantees to identify, and to propose training content that addresses issues that are specific to the needs of individual CILs or SILCs as well as those common to a number of CILs or SILCs. Requiring grantees under these priorities to address certain content areas could limit the ability of the grantees to address other issues or emerging training and technical assistance needs. We prefer to provide applicants with the flexibility to propose the content of the specific training and technical assistance they intend to provide and to describe how they determined the content areas and the need for training and technical assistance in those areas. The application review process will evaluate the merits of the proposed content of the training and technical assistance.

Regarding the commenter's request for clarification, the NPP noted that the Department currently funds a training and technical assistance grant focusing on youths in transition and stated that the two priorities proposed for CILs and SILCs would be for general, comprehensive training and technical assistance. That said, an applicant for a grant under one of the two priorities established in this notice is not precluded from including transitioning youths as a content area in its proposed training and technical assistance. Any applicant that identifies training and technical assistance on youths in transition as a need and proposes such training must show, as required by each priority, how it will coordinate and collaborate with the other Department-funded training and technical assistance projects, including the one that focuses on transition, in order to ensure that training and technical assistance activities are complementary and non-duplicative and that dissemination activities are effective and efficient.

Changes: None.

Comment: Three commenters stated a concern that grantees will not be able to provide training and technical assistance to CILs and SILCs within a wide geographic range, including rural areas.

Discussion: Both priorities established in this notice require grantees to develop and implement a plan to provide training and technical assistance to all federally funded CILs and all SILCs. These requirements are sufficient to ensure that the grantees under these priorities provide training and technical assistance to CILs and SILCs within a wide geographic range, including rural areas. The application review process will evaluate the merits of the applications in this regard.

Changes: None.

Comment: One commenter recommended requiring grantees to collaborate with a number of resources, including State associations of CILs, State agencies that administer funding to CILs, and the National Council on Independent Living.

Discussion: The priorities establish minimum requirements for collaboration by the grantees. Under each priority, an applicant could propose to collaborate with additional entities, including State associations of CILs, State agencies that administer funding to CILs, or the National Council on Independent Living. Applicants have the flexibility to propose additional partners with which they plan to collaborate under the priorities. The application review process will evaluate the merits of any additional proposed collaborative partners.

Changes: None.

Comment: Three commenters recommended adding a requirement that the application review panel and applicants be “consumer-controlled”, i.e., have a majority of individuals with disabilities in decision-making positions.

Discussion: The CIL program regulations in 34 CFR 366.10 state that, in order to be eligible to receive funding to provide training and technical assistance, entities must have experience in the operation of centers. Nothing in the Act or the program regulations gives the Department the discretion to limit eligibility to only those applicants who are consumer-controlled entities.

The program regulations in 34 CFR 366.12(b) also state that the peer review of grant applications by panels must include persons who are not Federal government employees and who have experience in the operation of centers. Nothing in the Act or the program regulations gives the Department the discretion to limit peer review panels to only individuals with disabilities. We make every effort to ensure that the application review panels include highly qualified individuals with disabilities from diverse backgrounds who have the content expertise required.

Finally, we note that the selection criteria used by the application review panel to evaluate applications for training and technical assistance awards includes, in 34 CFR 366.15(d)(v), an examination of the extent to which the applicant encourages applications for employment from persons who are members of groups that have been traditionally under-represented, including persons with disabilities.

Changes: None.

Comment: One commenter recommended requiring grantees under these priorities to utilize a peer-to-peer training model.

Discussion: There are many possible training models that a grantee can use, including a peer-to-peer model. We prefer to provide applicants with the flexibility to propose the training models that the training and technical assistance project will employ. The application review process will evaluate the merits of the training models that applicants propose.

Changes: None.

Comment: One commenter expressed concern over the large number of entities to be served by the grants.

Discussion: We anticipate that the five-year grant period and projected funding levels for the grants will be sufficient to ensure that the needs of the CILs and SILCs served by the training and technical assistance providers will be addressed.

Changes: None.

Comment: One commenter recommended that the grantees subcontract with CILs and SILCs to provide the training and technical assistance.

Discussion: Consistent with applicable regulations, grantees have the authority to enter into subcontracts, and applicants can propose to subcontract with CILs or SILCs. If an applicant chooses to enter into subcontracts, we prefer to provide applicants with the discretion to choose the subcontractors. The application review process will evaluate the merits of any proposed subcontracts.

Changes: None.

Comment: One commenter opposed the establishment of both priorities because the commenter claimed that the current train-the-trainer-model has been ineffective and, as a result, the needs of individuals with significant disabilities are not being met.

Discussion: The Department does not believe that the training provided to CILs and SILCs has been ineffective. The Department is legally required to set aside funding from the CIL program to provide training and technical assistance to CILs, eligible agencies, and SILCs. Moreover, there is a continuing need for training and technical assistance to CILs due to the formation of new CILs, the expansion or change of existing CILs, and personnel changes in the CILs. Likewise, there is a continuing need for training and technical assistance for SILCs due to the varied backgrounds of the SILC members, the turnover of SILC membership, and the rotational appointment of SILC members. Further, because CILs deliver services directly to individuals with significant disabilities and because SILCs provide a forum for all independent living stakeholders in the State to set policy for the State's independent living program, it is important to provide timely and targeted training to each type of entity. The goal of training both the CILs and the SILCs is to enable them to carry out their respective functions and, ultimately, to better prepare them to meet the needs of individuals with significant disabilities and improve outcomes for those individuals who receive independent living services.

Changes: None.

Note: This notice does not solicit applications. In any year in which we choose to use one or more of these priorities, we invite applications through a notice in the Federal Register. When inviting applications we designate each priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priorities

Priority 1—Centers for Independent Living (CILs) Training and Technical Assistance Center

This priority supports a CILs Training and Technical Assistance Center (CILs T&TA Center) to improve the performance of CILs by providing training and technical assistance to the CILs on the programmatic and financial aspects of their operations, including information on effective practices and proven solutions to common problems. CILs are distributed across the Nation and vary in size, stage of development, service area characteristics, and urgency of need for training and technical assistance. Therefore, the training and technical assistance provided by the CILs T&TA Center must be sensitive to this diversity and must encompass a broad range of topics.

The CILs T&TA Center must make available to all CILs a broad array of resources, training, and technical assistance. In addition, the CILs T&TA Center must address the specific needs of CILs by providing those CILs that require it with intensive, individualized, on-site training and technical assistance that meets their needs. In this regard, the CILs T&TA Center must be prepared to respond promptly to the Department's identification of particular training and technical assistance needs in general and those of particular CILs.

In coordination with the Department, the CILs T&TA Center must—

(a) Develop and provide training and technical assistance, based on the CILs' annual performance report survey and other available data, on topics related to the provision and expansion of independent living (IL) services (primarily the IL core services), fiscal and management practices, compliance with CIL standards and assurances, increased program efficiency, rigorous evaluation, and improved outcomes as measured by long-term goals and indicators;

(b) Develop and implement a plan to ensure that training and technical assistance efforts will reach all federally funded CILs and other eligible agencies;

(c) Refer CILs and eligible agencies to non-IL specific training and technical assistance available through government or non-government resources;

(d) Utilize a broad range of available, accessible technologies and methodologies to provide training and technical assistance to CILs and eligible agencies in the most effective and cost efficient manner;

(e) Provide focused, intensive and rapid training and technical assistance to CILs identified by the Department as needing, or to CILs requesting, such assistance;

(f) Identify and develop accessible training and technical assistance materials and disseminate these materials to CILs and eligible agencies; and

(g) Coordinate and collaborate with other training and technical assistance projects funded by the Department to ensure that training and technical assistance activities are complementary and non-duplicative and that dissemination activities are effective and efficient. At a minimum, the CILs T&TA Center must coordinate with any SILC Training and Technical Assistance Center funded under the Statewide Independent Living Councils (SILCs) Training and Technical Assistance Center priority.

Priority 2—Statewide Independent Living Councils (SILCs) Training and Technical Assistance Center

This priority supports a SILCs Training and Technical Assistance Center (SILCs T&TA Center) to improve the performance of SILCs through greater access to timely and relevant training and technical assistance regarding SILC duties and operation.

In coordination with the Department, the SILCs T&TA Center must—

(a) Develop and provide training and technical assistance, based on the SILCs' annual performance report survey and other available data, on topics directly related to SILC legal responsibilities, including SILC organization and operation and the development of the SPIL;

(b) Develop and implement a plan to provide to all SILCs the training and technical assistance identified in paragraph (a) of this priority;

(c) Refer SILCs to non-IL specific training and technical assistance available through government or non-government resources;

(d) Utilize a broad range of available, accessible technologies and methodologies to provide training and technical assistance to SILCs in the most effective and cost efficient manner;

(e) Identify and develop accessible training and technical assistance materials and disseminate these materials to the SILCs;

(f) Provide training and technical assistance to SILCs to enhance SILC partnerships with State vocational rehabilitation agencies, CILs, and other organizations, with a focus on sharing successful operational experiences of other SILCs;

(g) Coordinate and collaborate with other training and technical assistance projects funded by the Department to ensure that training and technical assistance activities are complementary and non-duplicative and dissemination activities are effective and efficient. At a minimum, the SILCs T&TA Center must coordinate with any CILs Training and Technical Assistance Center funded under the Centers for Independent Living (CILs) Training and Technical Assistance Center priority.

Executive Order 12866

This notice of final priorities has been reviewed in accordance with Executive Order 12866. Under the terms of the order, we have assessed the potential costs and benefits of this regulatory action.

The potential costs associated with the notice of final priorities are those resulting from statutory requirements and those we have determined are necessary for administering this program effectively and efficiently.

In assessing the potential costs and benefits—both quantitative and qualitative—of this notice of final priorities, we have determined that the benefits of the final priorities justify the costs.

We have also determined that this regulatory action does not unduly interfere with State, local, and tribal governments in the exercise of their governmental functions.

Summary of Potential Costs and Benefits

Because the Department is proposing two priorities that may be used in two separate competitions, rather than in a single competition, the potential for increased application costs exists for an applicant that chooses to apply for both grants under both priorities. However, both priorities share the same overall objective—improved performance in the CIL program—and applications under both priorities would likely include common elements. This overlap may minimize any increased costs associated with using the two priorities in separate competitions.

Moreover, for an applicant that chooses to apply for only one grant, the two-priority approach would have the potential of reducing the application costs for that applicant. The Department believes that the potential benefits to the CIL program from a more focused, specialized approach to training and technical assistance for CILs and SILCs would outweigh any possible increase in associated application costs.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Applicable Program Regulations: 34 CFR 366.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.132B, Independent Living Program—Training and Technical Assistance Center).

Program Authority: 29 U.S.C. 796f(b).

Dated: June 19, 2007.
John H. Hager,
Assistant Secretary for Special Education and Rehabilitative Services.

[FR Doc. E7-12115 Filed 6-21-07; 8:45 am]

BILLING CODE 4000-01-P